ENVIRONMENTAL PROTECTION AGENCY

[ER-FRL-8992-5]

Environmental Impacts Statements; Notice of Availability

Responsible Agency: Office of Federal Activities, General Information (202) 564-1399 or http://www.epa.gov/compliance/nepa/.

Weekly receipt of Environmental Impact Statements

Filed 08/23/2010 Through 08/27/2010

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100341, Draft EIS, FHWA, WA,Cattle Point Road Realignment Project, To Maintain Vehicular, Bicycle, and Pedestrian Road Access, San Juan Island National Historical Park and Cattle Point Natural Resources Conservation Area, San Juan County, WA, Comment Period Ends: 11/01/2010, Contact: Peter Dederich 360-348-2223.

EIS No. 20100342, Draft EIS, FHWA, CA,Interstate 80/Interstate 680/State Route 12 Interchange Project, Proposal to Ease Traffic Congestions, Accommodate Projected Growth, and Improve Safety, Solano County, CA, Comment Period Ends: 10/18/2010, Contact: Lanh Phan 916-498-5046.

EIS No. 20100343, Draft EIS, BLM, NV,Tonopah Solar Energy Crescent Dunes Solar Energy Project, a 7,680-Acre Right-of-Way (ROW) on Public Lands to Construct a Concentrated Solar Thermal Power Plant Facility, Nye County, NV, Comment Period Ends: 10/18/2010, Contact: Timothy Coward 775-482-7830.

EIS No. 20100344, Final EIS, TVA, TN,Douglas and Nolichucky Tributary Reservoirs Land Management Plan, Implementation, Cocke, Greene, Hamblen, Jefferson and Sevier Counties, TN, Wait Period Ends: 10/04/2010, Contact: Amy Henry 865-632-4045.

EIS No. 20100345, Draft EIS, BR, CA,Upper Truckee River Restoration and Golf Course Reconfiguration Project, To Restore Natural Geomorphic Ecological Process, Lake Tahoe, EL Dorado County, CA, Comment Period Ends: 11/01/2010, Contact: Doug Kleinsmith 916-978-5034.

EIS No. 20100346, Draft EIS, BLM, 00,Jarbidge Draft Resource Management Plan, Implementation, Elmore, Owy Lee, and Twin Falls Counties in South-Central, ID and Elko County in Northern, CA, Comment Period Ends: 11/30/2010, Contact: Richard Vander 208-736-2380.

EIS No. 20100347, Draft EIS, FHWA, CA,CA-76 South Mission road to Interstate 15 Highway Improvement Project, Proposes to Widen and Realign/a Two Lane Highway, San Diego County, CA, Comment Period Ends: 11/01/2010, Contact: Cesar Perez 916-498-5065.

EIS No. 20100348, Final EIS, FERC, ID,Swan Falls Hydroelectric Project, Application for a New License for the 25-megawatt Hydroelectric Facility (FERC Project No. 503-048), Snake River, Ada and Owyhee Counties, ID, Wait Period Ends: 10/04/2010, Contact: Mary O'Driscoll 1-866-208-3372.

EIS No. 20100349, Draft Supplement, FHWA, WI,Wisconsin Highway Project, Mobility Motorized and Nonmotorized Travel Enhancements, Updated Information on New Alternatives, and Evaluates a Staged Improvement, US18/151 (Verona Road) and the US 12/14 (Beltine) Corridors, Dane County, WI, Comment Period Ends: 10/29/2010, Contact: Johnny Gerbitz 608-829-7500.

EIS No. 20100350, Final EIS, NRC, WI,GENERIC—License Renewal of Nuclear Plants for Kewaunee Power Station, Supplement 40 to NUREG-1437, Kewaunee County, WI, Wait Period Ends: 10/04/2010, Contact: Dan Doyle 301-415-3748.

EIS No. 20100351, Draft EIS, NRC, GA,Vogtle Electric Generating Plant Units 3 and 4, Construction and Operation, Application for Combined Licenses (COLs), NUREG-1947, Waynesbora, GA, Comment Period Ends: 11/16/2010, Contact:Mallecia Sutton 301-415-0673.

EIS No. 20100352, Draft EIS, FTA, CA,Regional Connector Transit Corridor Project, Proposes a Light Rail Extension Connecting Metro Gold Line to the Metro Blue Line and the Metro Expo Line, Los Angeles County, CA, Comment Period Ends: 10/18/2010, Contact: Ray Tellis 213-202-3950.

EIS No. 20100353, Draft EIS, FTA, CA, Westside Subway Extension Transit Corridor Project, Extension of the Existing Metro Purple Line and Metro Red Line Heavy Rail Subway, Los Angeles County Metropolitan Transportation Authority, Los Angeles County, CA, Comment Period Ends: 10/18/2010, Contact: Ray Tellis 213-202-3950.

EIS No. 20100354, Final EIS, NPS, 00, South Florida and Caribbean Parks Exotic Plant Management Plan, Manage and Control Exotic Plants in Nine Parks, Five in South Florida Parks: Big Cypress National Preserve, Biscayne National Park, Canaveral National Seashore, Dry Tortugas National Park, Everglades National Park and Four in Caribbean Parks: Buck Island Reef National Monument, Christiansted National Historic Site, Salt River Bay National Historic Park and Ecological Preserve and Virgin Islands National Park, Florida and Caribbean, Wait Period Ends: 10/04/2010, Contact: Sandra Hamilton 303-969-2068.

EIS No. 20100355, Draft Supplement, FRA, NV, DesertXpress High-Speed Passenger Train Project, Updated Information on Project Modification and Additions, Proposes to Construct and Operate High-Speed Passenger Train between Victorville, California and Las Vegas, Nevada, Comment Period Ends: 10/18/2010, Contact: Wendy Messenger 202-493-6396.

EIS No. 20100356, Draft EIS, NPS, WA, Stehekin River Corridor Implementation Plan, General Management Plan, Implementation, Lake Chelan National Recreation Area, North Cascades National Park Service Complex, WA, Comment Period Ends: 12/13/2010, Contact: Jon Riedel 360-873-4590, Ext 21.

EIS No. 20100357, Final EIS, USFS, SD, Nautilus Project Area, Multiple Resource Management Actions, Implementation, Black Hills National Forest, Northern Hills Ranger District, Lawrence, Meade and Pennington, SD, Wait Period Ends: 10/04/2010, Contact: Chris Stores 605-642-4622.

EIS No. 20100358, Draft EIS, USFS, WY, Livestock Grazing and Vegetation Management on Five Project Area, Proposes to Continue to Authorize Livestock Grazing, Tongue, Medicine Wheel/Paintrock, and Power River Districts of the Bighorn National Forest, Johnson, Sheridan, Big Horn and Washakie Counties, WY, Comment Period Ends: 10/18/2010, Contact: Laurie Walters-Clark 307-674-2627.

EIS No. 20100359, Final EIS, NOAA, WI, Lake Superior National Estuarine Research Reserves to be known as the Lake Superior Reserve Proposed Designation, To Provide Greater Protection, Research and Education Opportunities to 16,697 Acres of the St. Louis River Estuary, WI, Wait Period Ends: 10/04/2010, Contact: Laurie McGilvray 301-563-1158.

Amended Notices

EIS No. 20100258, Draft EIS, BLM, OR, North Steens 230-kV Transmission Line Project, Construction and Operation of a Transmission Line and Access Roads Associated with the Echanis Wind Energy Project, Authorizing Right-of-Way Grant, Harney County, OR, Comment Period Ends: 09/17/2010, Contact: Skip Renchler 541-573-4400. Revision to FR Notice Published 7/16/2010: Extending Comment Period from 8/30/2010 to 09/17/2010.

EIS No. 20100296, Draft EIS, NOAA, 00, Columbia River Basin Hatchery Operations and the Funding of Mitchell Act Hatchery Program, To Authorize the Establishment, Operation and Maintenance of One or More Hatchery Facilities, OR, WA and ID, Comment Period Ends: 12/03/2010, Contact: Allyson Purcell 503-736-4736.

Revision to FR Notice Published 08/06/2010: Extending the Comment Period from 11/04/2010 to 12/03/2010.

Dated: 08/31/2010.
Robert W. Hargrove,
Director, NEPA Compliance Division, Office of Federal Activities.

[FR Doc. 2010-22074 Filed 9-2-10; 8:45 am]

BILLING CODE 6560-50-P